DEPARTMENT OF COMMERCE

National Oceanic and Atmospheric Administration

[I.D. 072302A]

Marine Mammals; File Nos. 1026-1671 and 1033-1683 and Permit No. 358-1585-01

AGENCY: National Marine Fisheries Service (NMFS), National Oceanic and Atmospheric Administration (NOAA), Commerce.

ACTION: Receipt of applications for permits and application for permit amendment.

SUMMARY: Notice is hereby given that the following applicants have applied in due form for a permit or permit amendment to take marine mammals for purposes of scientific research:

File No. 1026-1671-Belinda L. Rubinstein, New England Aquarium, Central Wharf, Boston, MA 02110;

File No. 1033-1683-Michael A. Castellini, Ph.D., Institute of Marine Science, School of Fisheries and Ocean Sciences, University of Alaska, Fairbanks, AK 99775; and

Permit No. 358-1585-01-Alaska Department of Fish and Game, (Dr. Robert Small, PI), Division of Wildlife Conservation, P.O. Box 25526, Juneau, AK 99802-5526.

DATES: Written or telefaxed comments on these actions must be received on or before September 4, 2002.

ADDRESSES: The applications and related documents are available for review upon written request or by appointment (see SUPPLEMENTARY INFORMATION for addresses).

FOR FURTHER INFORMATION CONTACT: Ruth Johnson or Amy Sloan, 301/713-2289.

SUPPLEMENTARY INFORMATION: The subject permits and amendment request are requested under the authority of the Marine Mammal Protection Act of 1972, as amended (MMPA; 16 U.S.C. 1361 et seq.), the Regulations Governing the Taking and Importing of Marine Mammals (50 CFR part 216).

Applications for Permit

Belinda L. Rubinstein (File No. 1026-1671) requests a permit to take five species of seals found in waters off he northeast U.S. coast. These include the harbor seal (Phoca vitulina), harp seal (Phoca groenlandica), gray seal(Halichoerus grypus), hooded seal (Cystophora cristata) and ringed seal (Phoca hispida). Seals will be captured, tagged, sampled (including tooth extraction, biopsy, milk collection and anal swabs), and released. In addition to taking wild animals, the applicant also requests authority to sample conspecifics held in rehabilitation facilities. The purposes of the research are to: study habitat utilization using satellite telemetry and flipper tagging, determine stock association, and monitor health.

Michael A. Castellini, Ph.D., (File No. 1033-1683) requests a permit to take Weddell seals (Leptonychotes weddellii) in the Antarctic. Seals will be captured, instrumented, sampled and released. The applicant proposes to study the nutrient metabolism in predatory carnivores by examining how Weddell seals process nutrients while foraging, examining the kinetics of lipid uptake and utilization during active foraging, use labeled traced experiments to quantify lipid turnover rates and separate the lipid pool into its various components. Other species such as leopard, crabeater, Ross, southern elephant, and Antarctic fur seals occur in the study area and may be incidentally harassed during capture operations.

Amendment Request

Permit No. 358-1565-01 authorizes the Alaska Department of Fish and Game scientists to capture, sample, handle, tag, collect samples from subsistence harvested animals and export samples for analysis. The Permit also authorizes two accidental mortalities per year not to exceed 500 over five years.

The Holder now requests authority to amend the Permit to allow implantation of subcutaneous radio-telemetry transmitters in harbor seals. In the initial pilot project, the Holder proposes to perform implant surgery on 10 of the seals already authorized to be taken. Pending a successful pilot season, individuals already authorized in the permit will receive subcutaneous implants of radio transmitters.

Additionally, the Holder requests authority to increase the number of accidental mortalities allowed per year from 2 during capture operations to 6 annually [which includes mortalities associated with tag implant and capture operations], not to exceed 10 over the next three years.

In compliance with the National Environmental Policy Act of 1969 (42 U.S.C. 4321 et seq.), an initial determination has been made that the activities proposed are categorically excluded from the requirement to prepare an environmental assessment or environmental impact statement.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on these particular requests would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of these applications to the Marine Mammal Commission and its Committee of Scientific Advisors.

Documents are available for review in the following offices:

All files are available in the Permits, Conservation and Education Division, Office of Protected Resources, NMFS, 1315 East-West Highway, Room 13705, Silver Spring, MD 20910; phone (301)713-2289; fax (301)713-0376;

File No. 1026-1671: Assistant Regional Administrator for Protected Resources, Northeast Region, NMFS, One Blackburn Drive, Gloucester, MA 01930-2298; phone (978)281-9200; fax (978)281-9371;

Assistant Regional Administrator for Protected Resources, Southeast Region, NMFS, 9721 Executive Center Drive North, St. Petersburg, FL 33702-2432; phone (727)570-5301; fax (727)570-5320.

File No. 1033-1683: Assistant Regional Administrator for Protected Resources, Southwest Region, NMFS, 501 West Ocean Blvd., Suite 4200, Long Beach, CA 90802-4213; phone (562)980-4001; fax (562)980-4018.

File No. 358-1585-01: Assistant Regional Administrator for Protected Resources, Alaska Region, NMFS, P.O. Box 21668, Juneau, AK 99802-1668; phone (907)586-7221; fax (907)586-7249.

Dated: July 25, 2002.
Eugene T. Nitta,
Acting Chief, Permits, Conservation and Education Division, Office of Protected Resources, National Marine Fisheries Service.

[FR Doc. 02-19689 Filed 8-2-02; 8:45 am]

BILLING CODE 3510-22-S